DEPARTMENT OF ENERGY

Federal Energy Regulatory Commission

[Docket No. EL05-148-000; ER05-1410-000]

PJM Interconnection, L.L.C.; Notice of Initiation of Proceeding and Refund Effective Date

May 9, 2006.

On April 20, 2006, the Commission issued an order that initiated a proceeding in Docket Nos. EL05-148-000 and ER05-1410-000, pursuant to section 206 of the Federal Power Act (FPS), 16 U.S.C. 824e (2005), concerning the justness and reasonableness of PJM Interconnection, L.L.C.'s reliability pricing model proposal (RPM). PJM Interconnection, L.L.C., 115 FERC ¶ 61,079 (2006).

The refund effective date in Docket Nos. EL05-148-000 and ER05-1410-000, established pursuant to section 206(b) of the FPA, will be the date of publication of this notice in the Federal Register.

Magalie R. Salas,
Secretary.

[FR Doc. E6-7373 Filed 5-15-06; 8:45 am]

BILLING CODE 6717-01-P